NATIONAL SCIENCE FOUNDATION

Sunshine Act Meeting

Agency Holding Meeting: National Science Board, Committee on Education and Human Resources.

Date and Time: January 18, 2005, 10 a.m. (ET).

Place: The National Science Foundation, 4201 Wilson Boulevard, Room 110, Arlington, VA 22230, http://www.nsf.gov/nsb.

Status: This meeting will be open to the public.

Matters to be Considered:

Tuesday, January 18, 2005 Open Session

Open Session (10 a.m. to 11 a.m.)

Discussion of the charge for an Industry panel on the S&E workforce.

FOR FURTHER INFORMATION CONTACT: Dr. Michael P. Crosby, Executive Officer and NSB Office Director, (703) 292-7000, http://www.nsf.gov/nsb.

Michael P. Crosby,
Executive Officer and NSB Office Director.

[FR Doc. 05-862 Filed 1-11-05; 2:33 pm]

BILLING CODE 7555-01-P